DEPARTMENT OF TRANSPORTATION

Coast Guard

33 CFR Parts 1, 3, 20, 62, 66, 67, 70, 74, 80, 100, 114, 117, 118, 127, 144, 151, 153, 154, 157, 160, 161, 162, 165, 181, and 183

[USCG-2000-7223]

Technical Amendments; Organizational Changes; Miscellaneous Editorial Changes and Conforming Amendments

AGENCY: Coast Guard, DOT.

ACTION: Final rule.

SUMMARY: This rule makes editorial and technical changes throughout Title 33 of the Code of Federal Regulations (CFR) to update the title before it is recodified on July 1, 2000. It corrects addresses, updates cross-references, makes conforming amendments, and makes other technical corrections. This rule will have no substantive effect on the regulated public.

DATES: This final rule is effective June 30, 2000.

ADDRESSES: Documents as indicated in this preamble are available for inspection or copying at the Docket Management Facility, [USCG-2000-7223], U.S. Department of Transportation, room PL-401, 400 Seventh Street SW., Washington, DC, 20590-0001, between 9 a.m. and 5 p.m., Monday through Friday, except Federal holidays. You may also find this docket on the Internet at http://dms.dot.gov.

FOR FURTHER INFORMATION CONTACT: For questions on this rule, contact Ms. Janet Walton, Project Manager, Standards Evaluation and Development Division (G-MSR-2), Coast Guard, telephone 202-267-0257. For questions on viewing, or submitting material to, the docket, contact Dorothy Beard, Chief, Dockets, Department of Transportation, telephone 202-366-9329.

SUPPLEMENTARY INFORMATION:

Discussion of the Rule

Each year Title 33 of the Code of Federal Regulations is recodified on July 1. This rule makes editorial changes throughout the title, corrects addresses, updates cross-references, and makes other technical and editorial corrections to be included in the recodification. Some editorial changes are discussed individually in the following paragraphs. This rule does not change any substantive requirements of existing regulations.

We did not publish a notice of proposed rulemaking (NPRM) for this regulation. Under 5 U.S.C. 553(b)(B), the Coast Guard finds that good cause exists for not publishing an NPRM. This rule consists only of corrections and editorial and conforming amendments to Title 33 of the Code of Federal Regulations. These changes will have no substantive effect on the public and publishing an NPRM and providing an opportunity for public comment is unnecessary. Under 5 U.S.C. 553(d)(3), the Coast Guard finds that, for the same reasons, good cause exists for making this rule effective less than 30 days after publication in the Federal Register.

Section 20.304

The Coast Guard published an Interim Rule, Rules of Practice, Procedure, and Evidence for Administrative Proceedings of the Coast Guard, on May 24, 1999 [USCG-1998-3472] [64 FR 28054]. We published a correction to the Interim Rule, on June 28, 1999, that corrected Table 20.304(D)—How To Serve Filed Documents. With the publication of the July 1, 1999, codification of 33 CFR, we discovered that the table was still printed incorrectly. This rulemaking sets out the table the way it was intended.

Sections 127.611, 127.1511, 154.500, Appendix A, B, and C to Part 154, and Sections 183.114, and 183.516

On December 1, 1999, the Coast Guard published a Direct Final Rule, Update of Standards from the American Society for Testing and Materials (ASTM) [USCG-1999-5151] [64 FR 67170]. On March 1, 2000, we published a confirmation of effective date for the rule [65 FR 10943]. Because we did not change the sections in the CFR where the standard numbers did not contain a year date, we are now adding a cross-reference back to the Incorporation by reference section in each part for each of the sections listed.

Section 151.19

The Frequency of Inspection Final Rule [USCG-1999-4976], published on February 9, 2000 (65 FR 6494), established a 5-year Certificate of Inspection cycle to harmonize the Coast Guard's inspections with internationally required certificates. We published the final rule to establish the frequency of inspection requirements to meet the International Convention for the Safety of Life at Sea, 1974, and the International Convention on Load Line compliance date of February 3, 2000. This rule changes section 151.19 to conform to the February final rule.

Section 153.205

This rule updates the addresses and telephone numbers in Table 1, Addresses and Telephone Numbers of Coast Guard District Offices and EPA Regional Offices.

Section 154.1035

This rule sets out paragraph (e)(3)(iii) with the correct location of the words “classified” and “classification”. The words are reversed in the current codification.

Regulatory Evaluation

This rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; February 26, 1979). We expect the economic impact of this rule to be so minimal that a full Regulatory Evaluation under paragraph 10e of the regulatory policies and procedures of DOT is unnecessary. As this rule involves internal agency practices and procedures, it will not impose any costs on the public.

Collection of Information

This rule calls for no new collection of information under the Paperwork Reduction Act of 1995 (44 U.S.C. 3501-3520).

Federalism

We have analyzed this rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph (34)(a) and (b) of Commandant Instruction M16475.lC, this rule is categorically excluded from further environmental documentation. This exclusion is in accordance with paragraphs (34)(a) and (b), concerning regulations that are editorial or procedural and concerning internal agency functions or organization. A “Categorical Exclusion Determination” is available in the docket where indicated under ADDRESSES.

List of Subjects

33 CFR Part 1

Administrative practice and procedure, Authority delegations (Government agencies), Freedom of information, Penalties.

33 CFR Part 3

Organization and functions (Government agencies).

33 CFR Part 20

Administrative law judges, Administrative practice and procedure, Appeals, Discovery, Evidence, Hearings.

33 CFR Part 62

Navigation (water).

33 CFR Part 66

Intergovernmental relations, Navigation (water), Reporting and recordkeeping requirements.

33 CFR Part 67

Continental shelf, Navigation (water), Reporting and recordkeeping requirements.

33 CFR Part 70

Navigation (water), Penalties.

33 CFR Part 74

Navigation (water).

33 CFR Part 80

Navigation (water), Treaties, Waterways.

33 CFR Part 100

Marine safety, Navigation (water), Reporting and recordkeeping requirements, Waterways.

33 CFR Part 114

Bridges.

33 CFR Part 117

Bridges.

33 CFR Part 118

Bridges.

33 CFR Part 127

Fire prevention, Harbors, Natural gas, Reporting and recordkeeping requirements, Security measures.

33 CFR Part 144

Continental shelf, Marine safety, Occupational safety and health.

33 CFR Part 151

Administrative practice and procedure, Oil pollution, Penalties, Reporting and recordkeeping requirements, Water pollution control.

33 CFR Part 153

Hazardous substances, Oil pollution, Reporting and recordkeeping requirements, Water pollution control.

33 CFR Part 154

Fire prevention, Hazardous substances, Oil pollution, Reporting and recordkeeping requirements.

33 CFR Part 157

Cargo vessels, Oil pollution, Reporting and recordkeeping requirements.

33 CFR Part 160

Administrative practice and procedure, Harbors, Hazardous materials transportation, Marine safety, Navigation (water), Reporting and recordkeeping requirements, Vessels, Waterways.

33 CFR Part 161

Harbors, Navigation (water), Reporting and recordkeeping requirements, Vessels, Waterways.

33 CFR Part 162

Navigation (water), Waterways.

33 CFR Part 165

Harbors, Marine safety, Navigation (water), Reporting and recordkeeping requirements, Security measures, Waterways.

33 CFR Part 181

Labeling, Marine safety, Reporting and recordkeeping requirements.

33 CFR Part 183

Marine safety.

For the reasons set out in the preamble, the Coast Guard amends 33 CFR parts 1, 3, 20, 62, 66, 67, 70, 74, 80, 100, 114, 117, 118, 127, 144, 151, 153, 154, 157, 160, 161, 162, 165, 181, and 183 as follows:

PART 1—GENERAL PROVISIONS

1. The authority citation for part 1 continues to read as follows:

Authority: 14 U.S.C. 633; Sec. 6079(d), Pub. L. 100-690, 102 Stat. 4181; 49 CFR 1.46.

2. In § 1.07-10, in paragraph (a), add after the word “Commander” and before the word “in” the words “or other designated official”; and revise paragraph (b) to read as follows:

§ 1.07-10 Reporting and investigation.

* * * * *

(b) Reports of any investigation conducted by the Coast Guard or received from any other agency which indicate that a violation may have occurred may be forwarded to a District Commander or other designated official for further action. This is normally the District Commander of the District in which the violation is believed to have occurred, or the District in which the reporting unit or agency is found. The report is reviewed to determine if there is sufficient evidence to establish a prima facie case. If there is insufficient evidence, the case is either returned for further investigation or closed if further action is unwarranted. The case is closed in situations in which the investigation has established that a violation did not occur, the violator is unknown, or there is little likelihood of discovering additional relevant facts. If it is determined that a prima facie case does exist, a case file is prepared and forwarded to the Hearing Officer, with a recommended action. A record of any prior violations by the same person or entity, is forwarded with the case file.

PART 3—COAST GUARD AREAS, DISTRICTS, MARINE INSPECTION ZONES, AND CAPTAIN OF THE PORT ZONES

3. The authority citation for part 3 continues to read as follows:

Authority: 14 U.S.C. 633; 49 CFR 1.45, 1.46.

§ 3.05-35 [Amended]

4. In § 3.05-35(b), remove the words “thence proceeds along a line northwesterly to 40°40′ N. latitude, 73°40′ W. longitude” and add, in their place, the words “thence proceeds along a line northeasterly to 40°40′ N. latitude, 73°40′ W. longitude”.

PART 20—RULES OF PRACTICE, PROCEDURE, AND EVIDENCE FOR FORMAL ADMINISTRATIVE PROCEEDINGS OF THE COAST GUARD

5. The authority citation for part 20 continues to read as follows:

Authority: 33 U.S.C. 1321; 42 U.S.C. 9609; 46 U.S.C. 7701, 7702; 49 CFR 1.46.

6. In § 20.304, in paragraph (d), revise Table 20.304(D) to read as follows:

§ 20.304 Service of documents.

* * * * *

(d) * * *

Table 20.304(D).—How To Serve Filed Documents
Type of filed document | Acceptable methods of service
(1) Complaint | (i) Certified mail, return receipt requested.
| (ii) Personal delivery.
| (iii) Express-courier service that has receipt capability.
(2) Default Motion | (i) Certified mail, return receipt requested.
| (ii) Personal delivery.
| (iii) Express-courier service that has receipt capability.
(3) Answer | (i) Mail.
| (ii) Personal delivery.
| (iii) Express-courier service.
| (iv) Fax.
(4) Any other filed document | (i) Mail.
| (ii) Personal delivery.
| (iii) Express-courier service.
| (iv) Fax.
| (v) Other electronic means (at the discretion of the ALJ).

* * * * *

PART 62—UNITED STATES AIDS TO NAVIGATION SYSTEM

7. The authority citation for part 62 continues to read as follows:

Authority: 14 U.S.C. 85; 33 U.S.C. 1233; 43 U.S.C. 1333; 49 CFR 1.46.

§ 62.65 [Amended]

8. In § 62.65(c)(1), remove the words “listed in Chapter five, Section 500D of Radio Navigational Aids Publication, 117A and 117B” and add, in their place, the words “listed in Chapter four of Radio Navigation Aids Publication, 117”; remove paragraph (c)(2); and redesignate paragraph (c)(3) as (c)(2).

PART 66—PRIVATE AIDS TO NAVIGATION

9. The authority citation for part 66 continues to read as follows:

Authority: 14 U.S.C. 83, 85; 43 U.S.C. 1333; 49 CFR 1.46.

10. Revise § 66.05-30(b) to read as follows:

§ 66.05-30 Notice to Mariners.

* * * * *

(b) Notices to Mariners which concern the establishment, disestablishment, or change of State aids to navigation, including regulatory markers, may be published whenever the aids to navigation concerned are covered by navigational charts or maps issued by the U.S. Coast and Geodetic Survey or the U.S. Army Corps of Engineers.

PART 67—AIDS TO NAVIGATION ON ARTIFICIAL ISLANDS AND FIXED STRUCTURES

11. The authority citation for part 67 continues to read as follows:

Authority: 14 U.S.C. 85, 633; 43 U.S.C. 1333; 49 CFR 1.46.

§ 67.50-25 [Amended]

12. In § 67.50-25(e), remove the words “328 Custom House Building, New Orleans, Louisiana 70130” and add, in their place, the words “Hale Boggs Federal Building, 500 Camp Street, New Orleans, LA 70130-3396”.

PART 70—INTERFERENCE WITH OR DAMAGE TO AIDS TO NAVIGATION

13. The authority citation for part 70 continues to read as follows:

Authority: Secs. 14, 16, 30 Stat. 1152, 1153; secs. 84, 86, 92, 633, 642, 63 Stat. 500, 501, 503, 545, 547 (33 U.S.C. 408, 411, 412; 14 U.S.C. 84, 86, 92, 633, 642).

§ 70.05-20 [Amended]

14. In § 70.05-20, remove the authority citation following the section.

PART 74—CHARGES FOR COAST GUARD AIDS TO NAVIGATION WORK

15. The authority citation for part 74 continues to read as follows:

Authority: 14 U.S.C. 81, 85, 86, 92, 93, 141, 633, 642, 647; 49 CFR 1.46(b).

§ 74.20-1 [Amended]

16. In § 74.20-1(a), remove the words “COMDTNOTE 7310 (series) which is available at the Office of the Comptroller” and add, in their place the words “COMDTINST 7310 (series) which is available from the District Budget Office”.

PART 80—COLREGS DEMARCATION LINES

17. The authority citation for part 80 continues to read as follows:

Authority: 14 U.S.C. 2; 14 U.S.C. 633; 33 U.S.C. 151(a); 49 CFR 1.46.

18. In § 80.501, revise paragraph (h) to read as follows:

§ 80.501 Tom's River, NJ to Cape May, NJ.

* * * * *

(h) A line drawn from Cape May Inlet East Jetty Light 4 to Cape May Inlet West Jetty Light 5.

PART 100—MARINE EVENTS

19. The authority citation for part 100 continues to read as follows:

Authority: 33 U.S.C. 1233 through 1236; 49 CFR 1.46; 33 CFR 100.35.

20. In § 100.114(a), in the Fireworks Display Table—

a. In the entry for New York: 6.5, remove the word “years” and add, in its place, the word “yards”;

b. In the entry for New York: 10.1, remove the numbers “6:45 to 8:45” and add in their place, the numbers “6:45 p.m. to 8:45 p.m.”; and

c. Revise the entries for Massachusetts: 6.6, Maine: 7.51, Maine: 8.12, New York: 9.8, and Massachusetts: 10.2 as follows:

§ 100.114 Fireworks displays within the First Coast Guard District.

(a) * * *

Fireworks Display Table
* * * * * * *
Massachusetts:
6.6 | Thursday prior to July 4th | Name: Boston Harborfest Fireworks. Sponsor: Harborfest Committee. Time: 9:30 p.m. to 10.30 p.m. Location: Just Off Coast Guard Base, Boston Harbor, MA 42°22′53″ N/71°02′ 56″W (NAD 1983).
* * * * * * *
Maine:
7.51 | Third Saturday in July | Name: Belfast Fireworks. Sponsor: Belfast Bay Festival Committee. Time: 8:00 p.m. to 10:00 p.m. Location: Belfast Bay, ME.
* * * * * * *
Maine:
8.12 | A night during Labor day weekend | Name: Camden Fireworks Display. Sponsor: Town of Camden Chamber of Commerce. Time: 8:00 p.m. to 10:00 p.m. Location: Camden Harbor, Camden, ME.
* * * * * * *
New York:
9.8 | A night during the last two weekends in September | Name: Cow Harbor Day Fireworks. Sponsor: Village of Northport Harbor. Time: 8:00 p.m. to 10.00 p.m. Location: Sand Pit, Northport Harbor, Northport, NY.
* * * * * * *
Massachusetts:
10.2 | A night during the second weekend of October | Name: Yarmouth Seaside Festival Fireworks. Sponsor: Yarmouth Seaside Festival. Time: 8:00 p.m. to 9:00 p.m. Location: Seagull Beach, W. Yarmouth, MA 41°38′06″ N/070°13′ 13″W (NAD 1983).
* * * * * * *

* * * * *

§ 100.502 [Amended]

21. In § 100.502(a)(2), remove the words “Cape May” and add, in their place, the words “Atlantic City”.

§ 100.507 [Amended]

22. In § 100.507(a)(2), remove the word “Group” and add, in its place, the words “Coast Guard Activities”.

§ 100.511 [Amended]

23. In § 100.511(a)(2), remove the word “Group” and add, in its place, the words “Coast Guard Activities”.

§ 100.515 [Amended]

24. In § 100.515(a)(2), remove the word “Group” and add, in its place, the word “Coast Guard Activities”.

§ 100.517 [Amended]

25. In § 100.517(a)(2), remove the word “Group” and add, in its place, the words “Activities”.

§ 100.518 [Amended]

26. In § 100.518(a)(2), remove the word “Group” and add, in its place, the words “Coast Guard Activities”.

27. In § 100.901(e), in Table 1, under the “Group Detroit, MI” remove the entry for Flatsfest, and add, in alphabetical order, an entry for “Parade of Lights” to read as follows:

§ 100.901 Great Lakes annual marine events.

* * * * *

(e) * * *

Table 1

* * * * *

Group Detroit, MI:

* * * * *

Parade of Lights

Sponsor: Lake Erie Marine Trade Association (LEMTA).

Date: 3rd or 4th weekend of July.

Location: Cuyahoga River, Conrail Railroad Bridge at Mile 0.8 above the mouth of the river to the Eagle Avenue Bridge, near Cleveland, OH.

* * * * *

PART 114—GENERAL

28. The authority citation for part 114 continues to read as follows:

Authority: 33 U.S.C. 401, 491, 499, 521, 525, and 535; 14 U.S.C. 633; 49 U.S.C. 1655(g); 49 CFR 1.46(c).

§ 114.10 [Amended]

29. In § 114.10, add the word “for” immediately before the words “the reasonable needs of navigation”.

PART 117—DRAWBRIDGE OPERATION REGULATIONS

30. The authority citation for part 117 continues to read as follows:

Authority: 33 U.S.C. 499; 49 CFR 1.46; 33 CFR 1.05-1(g); section 117.255 also issued under the authority of Pub. L. 102-587, 106 Stat. 5039.

§ 117.101 [Amended]

31. In § 117.101(b), remove the words “Illinois Central” and add, in their place, the words “Canadian National/Illinois Central”.

§ 117.123 [Amended]

32. In § 117.123(b)(2), remove the words “33 CFR 165.203” and add, in their place, the words “33 CFR 165.817”.

§ 117.171 [Amended]

33. In § 117.171(b), remove the words “yardmaster at Stockton” and add, in their place, the words “Manager of Structures at San Bernardino”.

§ 117.381 [Amended]

34. In § 117.381, remove the words “Union Pacific (Camas Prairie)” and add, in their place, the words “Camas Prairie”.

§ 117.465 [Amended]

35. In § 117.465(e), remove the words “The draws of the S649 bridge, mile 66.1, and the new S649 bridge, mile 66.6” and add, in their place, the words “ The draw of the S649 bridge, mile 66.6”.

§ 117.484 [Amended]

36. In § 117.484 introductory text, remove the words “Illinois Central” and add, in their place, the words “Canadian National/Illinois Central”.

§ 117.686 [Amended]

37. In § 117.686(a), remove the words “Illinois Central” and add, in their place, the words “Canadian National/Illinois Central”.

§ 117.861 [Amended]

38. In § 117.861, remove the words “Burlington Northern Santa Fe” and add, in their place, the words “Portland and Western”.

§ 117.863 [Removed]

39. Remove § 117.863.

§ 117.865 [Amended]

40. In § 117.865, remove the words “Willamette and Pacific” and add, in their place, the words “Portland and Western”.

§ 117.881 [Amended]

41. In § 117.881(a), remove the words “Willamette and Pacific” and add, in their place, the words “Portland and Western”.

42. Revise § 117.1063 to read as follows:

§ 117.1063 Willapa River South Fork.

The draw of the Washington State Parks and Recreation Commission bridge across the South Fork Willapa River, mile 0.3, at Raymond, shall open on signal if at least 24 hours notice is given.

PART 118—BRIDGE LIGHTING AND OTHER SIGNALS

43. The authority citation for part 118 continues to read as follows:

Authority: 33 U.S.C. 494; 14 U.S.C. 85, 633; 49 CFR 1.46(b) and (c)

§ 118.3 [Amended]

44. In § 118.3(b), remove the words “Office of the Federal Register, Washington, DC 20408 and at U.S. Coast Guard, Room 1410, 2100 Second Street, SW., Washington, DC 20593” and add, in their place, the words “Office of the Federal Register, 800 North Capitol Street NW., suite 700, Washington, DC 20408 and at U.S. Coast Guard Headquarters, Office of Bridge Administration (G-OPT), room 3500, 2100 Second Street SW., Washington, DC 20593-0001”.

PART 127—WATERFRONT FACILITIES HANDLING LIQUEFIED NATURAL GAS AND LIQUEFIED HAZARDOUS GAS

45. The authority citation for part 127 continues to read as follows:

Authority: 33 U.S.C. 1231; 49 CFR 1.46.

§ 127.611 [Amended]

46. In § 127.611, remove the words “ASTM F-1121” and add, in their place, the words “ASTM F 1121 (incorporated by reference, see § 127.003)”.

§ 127.1511 [Amended]

47. In § 127.1511, remove the words “ASTM F-1121” and add, in their place, the words “ASTM F 1121 (incorporated by reference, see § 127.003)”.

PART 144—LIFESAVING APPLIANCES

48. The authority citation for part 144 continues to read as follows:

Authority: 43 U.S.C. 1333d; 46 U.S.C. 3102(a); 46 CFR 1.46.

§ 144.20-5 [Amended]

49. In § 144.20-5(c), remove the words “46 CFR 160.071” and add, in their place, the words “46 CFR 160.171”.

PART 151—VESSELS CARRYING OIL, NOXIOUS LIQUID SUBSTANCES, GARBAGE, MUNICIPAL OR COMMERCIAL WASTE, AND BALLAST WATER

50. The authority citation for part 151, subpart A, continues to read as follows:

Authority: 33 U.S.C. 1321 and 1903; Pub. L. 104-227 (110 Stat. 3034), E.O. 12777, 3 CFR, 1991 Comp. p. 351; 49 CFR 1.46.

51. Revise the introductory text of § 151.19(e) to read as follows:

§ 151.19 International Oil Pollution Prevention (IOPP) Certificates.

* * * * *

(e) The IOPP Certificate for each U.S. inspected ship is valid for a period not to exceed five years from the date of issue, and for each U.S. uninspected ship the IOPP Certificate is valid for a period not to exceed five years from the date of issue, except as follows—

* * * * *

PART 153—CONTROL OF POLLUTION BY OIL AND HAZARDOUS SUBSTANCES, DISCHARGE REMOVAL

52. Revise the authority citation for part 153 to read as follows:

Authority: 14 U.S.C. 633; 33 U.S.C. 1321; 42 U.S.C. 9615; E.O. 12580, 3 CFR, 1987 Comp., p. 193; E.O. 12777, 3 CFR, 1991 Comp., p. 351; 49 CFR 1.45 and 1.46.

53. In § 153.205, revise Table 1 to read as follows:

§ 153.205 Fines.

* * * * *

Table 1.—Addresses and Telephone Numbers of Coast Guard District Offices and EPA Regional Offices
| Address | Telephone
EPA Regional Offices
Region:
1 | 1 Congress St., Suite 1100, Boston, MA 02114-2023 | 617-918-1111
2 | 290 Broadway, New York, NY 10007-1866 | 212-637-3000
3 | 1650 Arch St., Philadelphia, PA 19103-2029 | 215-814-5000
4 | Atlanta Federal Center, 61 Forsyth St., SW, Atlanta, GA 30303-3104 | 404-562-9900
5 | 77 West Jackson Boulevard, Chicago, IL 60604-3507 | 312-353-2000
6 | Fountain Place 12th Floor, Suite 1200, 1445 Ross Avenue, Dallas, TX 75202-2733 | 214-665-2200
7 | 901 North 5th St., Kansas City, KS 66101 | 913-551-7003
8 | 999 18th St., Suite 500, Denver, CO 80202-2466 | 303-312-6312
9 | 75 Hawthorne St., San Francisco, CA 94105 | 415-744-1305
10 | 1200 Sixth Avenue, Seattle, WA 98101 | 206-553-1200
Coast Guard District Offices
District:
1st | 408 Atlantic Avenue, Boston, MA 02210-3350 | 617-223-8480
5th | Federal Building, 431 Crawford St., Portsmouth, VA 23704-5004 | 757-398-6638
7th | 909 S.E. First Avenue, Miami, FL 33131-3050 | 305-536-5651
8th | Hale Boggs Federal Bldg., 500 Camp Street, New Orleans, LA 70130-3396 | 504-589-6901
9th | 1240 E. 9th St., Cleveland, OH 44199-2060 | 216-902-6045
11th | Coast Guard Island, Building 50-6, Alameda, CA 94501-5100 | 510-437-2940
13th | Jackson Federal Bldg., 915 Second Avenue, Seattle, WA 98174-1067 | 206-220-7090
14th | Prince PJKK Federal Bldg., Room 9212, 300 Ala Moana Blvd., Honolulu, HI 96850-4982 | 808-541-2114
17th | P.O. Box 25517, Juneau, AK 99802-5517 | 907-463-2199

* * * * *

PART 154—FACILITIES TRANSFERRING OIL OR HAZARDOUS MATERIAL IN BULK

54. The authority citation for part 154 continues to read as follows:

Authority: 33 U.S.C. 1231, 1321(j)(1)(C), (j)(5), (j)(6), and (m)(2); sec. 2, E.O. 12777, 56 FR 54757; 49 CFR 1.46. Subpart F is also issued under 33 U.S.C. 2735.

§ 154.500 [Amended]

55. In § 154.500(d)(3), remove the words “ASTM F-1122” and add, in their place, the words “ASTM F 1122 (incorporated by reference, see § 154.106)”.

56. In § 154.1035(e)(3)(iii) introductory text, revise the second sentence to read as follows:

§ 154.1035 Specific requirements for facilities that could reasonably be expected to cause significant and substantial harm to the environment.

* * * * *

(e) * * *

(3) * * *

(iii) * * *

For oil spill removal organization(s) classified by the Coast Guard, the classification must be noted in this section of the plan. * * *

* * * * *

Appendix A to Part 154 [Amended]

57. In Appendix A to part 154—

a. In paragraph 7.1, remove the words “ASTM F1155” and add, in their place, the words “ASTM F 1155 (incorporated by reference, see § 154.106)”;

b. In paragraph 8.4, remove the words “ASTM F722” and add, in their place, the words “ASTM F 722 (incorporated by reference, see § 154.106)” and remove the words “ASTM F1155” and add, in their place, the words “ASTM F 1155 (incorporated by reference, see § 154.106)”; and

c. In paragraph 8.6, remove the words “ASTM F722” and add, in their place, the words “ASTM F 722 (incorporated by reference, see § 154.106)”.

Appendix B to Part 154 [Amended]

58. In Appendix B to part 154—

a. In paragraph 7.1, remove the words “ASTM F1155” and add, in their place, the words “ASTM F 1155 (incorporated by reference, see § 154.106)”;

b. In paragraph 8.4, remove the words “ASTM F722” and add, in their place, the words “ASTM F 722 (incorporated by reference, see § 154.106)” and remove the words “ASTM F1155” and add, in their place, the words “ASTM F 1155 (incorporated by reference, see § 154.106)”; and

c. In paragraph 8.6, remove the words “ASTM F722” and add, in their place, the words “ASTM F 722 (incorporated by reference, see § 154.106)”.

Appendix C to Part 154 [Amended]

59. In Appendix C to part 154—

a. In paragraph 2.3.1, remove the words “ASTM F 715” and add, in their place, the words “ASTM F 715 (incorporated by reference, see § 154.106)”; and

b. In paragraph 6.3, remove the words “ASTM F 631” and add, in their place, the words “ASTM F 631 (incorporated by reference, see § 154.106)”.

PART 157—RULES FOR THE PROTECTION OF THE MARINE ENVIRONMENT RELATING TO TANK VESSELS CARRYING OIL IN BULK

60. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

§ 157.19 [Amended]

61. In § 157.19, remove the cross reference note following the section.

PART 160—PORTS AND WATERWAYS SAFETY—GENERAL

62. The authority citation for part 160 continues to read as follows:

Authority: 33 U.S.C. 1223, 1231; 49 CFR 1.46. Subpart D is also issued under the authority of 33 U.S.C. 1225 AND 46 U.S.C. 3715.

§ 160.201 [Amended]

63. In § 160.201, remove paragraph (c)(6) and redesignate paragraphs (c)(7), (8), and (9) as (c)(6), (7), and (8).

PART 161—VESSEL TRAFFIC MANAGEMENT

64. The authority citation for part 161 continues to read as follows:

Authority: 33 U.S.C. 1231; 33 U.S.C. 1223; 49 CFR 1.46.

65. In Table 161.35(C) in § 161.35, revise the entry for “P” to read as follows:

§ 161.35 Vessel Traffic Service Houston/Galveston.

* * * * *

Table 161.35(C).—VTS Houston/Galveston Reporting Points
Designator | Geographic name | Geographic description | Latitude/longitude | Notes
* * * * * * *
P | Bayport Ship Channel | Bayport Ship Channel Lt. 8 and 9 | 29° 36.8′ N; 94° 59.5′ W; | Report at the North Land Cut.
* * * * * * *

PART 162—INLAND WATERWAYS NAVIGATION REGULATIONS

66. The authority citation for part 162 continues to read as follows:

Authority: 33 U.S.C. 1231; 49 CFR 1.46.

§ 162.65 [Amended]

67. In § 162.65(b)(2)(iv) and (b)(6), remove the words “Inland Rules and the Pilot Rules for Inland Waters” and add, in their place, the words “Navigation Rules, International-Inland, Commandant Instruction M16672.2 (series)”.

§ 162.75 [Amended]

68. In § 162.75(b)(3)(iii) and (b)(7), remove the words “Inland Rules and the Pilot Rules for Inland Waters” and add, in their place, the words “Navigation Rules, International-Inland, Commandant Instruction M16672.2 (series)”.

PART 165—REGULATED NAVIGATION AREAS AND LIMITED ACCESS AREAS

69. The authority citation for part 165 continues to read as follows:

Authority: 33 U.S.C. 1231; 50 U.S.C. 191, 33 CFR 1.05-1(g), 6.04-1, 6.04-6, 160.5; 49 CFR 1.46.

§ 165.510 [Amended]

70. In § 165.510(f)(5), remove the words “46 CFR 85.25.55” and add, in their place, the words “46 CFR 58.25-70”.

§ 165.514 [Amended]

71. In § 165.514(a), remove the words “Bogue Sound-New River Light 58” and add, in their place, the words “Bogue Sound-New River Daybeacon 58”; and in paragraph (d), remove the words “or (910) 815-4895”.

72. Revise § 165.804(d) to read as follows:

§ 165.804 Snake Island, Texas City, Texas; mooring and fleeting of vessels-safety zone.

* * * * *

(d) In an emergency, vessels shall advise the Captain of the Port, Houston-Galveston, of the nature of the emergency via the most rapid means available.

§ 165.903 [Amended]

73. In § 165.903—

a. In paragraph (a)(1), remove the word “Conrail” and add, in its place, the words “Norfolk and Southern”;

b. In paragraph (a)(4) remove the word “Nicky's” and add, in its place, the word “Tiffany's”; and

c. In paragraph (a)(11) remove the words “Jim's Steak House” and add, in their place, the words “The Club Aqua”.

§§ 165.515 and 165.530 [Amended]

74. In addition to the amendments set for above, in 33 CFR part 165, remove the number “(910) 343-4895” and add, in its place, the number “1-800-325-4956” in the following sections:

(a) Section 165.515(c); and

(b) Section 165.530(b)(1).

PART 181—MANUFACTURER REQUIREMENTS

75. The authority citation for part 181 continues to read as follows:

Authority: 46 U.S.C. 4302 and 4310; 49 CFR 1.46

76. In § 181.4(b), revise the heading and address for “Underwriters Laboratories, Inc.” to read as follows:

§ 181.4 Incorporation by reference.

* * * * *

(b) * * *

Underwriters Laboratories, Inc. (UL)

12 Laboratory Drive, Research Triangle Park, NC 27709-3995

* * * * *

PART 183—BOATS AND ASSOCIATED EQUIPMENT

77. The authority citation for part 183 continues to read as follows:

Authority: 46 U.S.C. 4302; 49 CFR 1.46.

78. In § 183.5(b), revise the heading and address for “Underwriters Laboratories, Inc.” to read as follows:

§ 183.5 Incorporation by reference.

* * * * *

(b) * * *

Underwriters Laboratories, Inc. (UL)

12 Laboratory Drive, Research Triangle Park, NC 27709-3995

* * * * *

§ 183.114 [Amended]

79. In § 183.114, in paragraphs (b), (c), (d), and (e), remove the words “ASTM D-471” and add, in their place, the words “ASTM D 471 (incorporated by reference, see § 183.5)”; and in paragraph (h), remove the words “ASTM D-2842” and add, in their place, the words “ASTM D 2842 (incorporated by reference, see § 183.5)”.

§ 183.516 [Amended]

80. In § 183.516:

a. In paragraphs (a)(1)(i) and (ii), remove the words “ASTM D-471” and add, in their place, the words “ASTM D 471 (incorporated by reference, see § 183.5)”;

b. In paragraph (b), remove the words “ASTM D-1621” and add, in their place, the words “ASTM D 1621 (incorporated by reference, see § 183.5)”; and

c. In paragraph (c), remove the words “ASTM D-1622” and add, in their place, the words “ASTM D 1622 (incorporated by reference, see § 183.5)”.

81. In § 183.607, in paragraph (a) introductory text, remove the words “Room 4210, 2100 Second Street, SW., Washington, DC 20593” and add, in their place, the words “2100 Second Street, SW., Washington, DC 20593-0001”; and revise paragraphs (a)(2) and (3) to read as follows:

§ 183.607 Incorporation by reference.

* * * * *

(a) * * *

(2) ASTM Standard D 471. American Society for Testing and Materials, 100 Barr Harbor Drive, West Conshohocken, PA 19428-2959.

(3) UL Standard 1128, Underwriters Laboratories, Incorporated, 12 Laboratory Drive, Research Triangle Park, NC 27709-3995.

* * * * *

Dated: June 20, 2000.
Joseph J. Angelo,
Acting Assistant Commandant for Marine Safety and Environmental Protection.

[FR Doc. 00-16078 Filed 6-28-00; 8:45 am]

BILLING CODE 4910-15-U